DEPARTMENT OF HOMELAND SECURITY

Coast Guard

33 CFR Part 117

[Docket No. USCG-2014-0977]

Drawbridge Operation Regulation; Snohomish River, Everett, WA

AGENCY: Coast Guard, DHS.

ACTION: Notice of temporary deviation from drawbridge regulation; modification of effective date.

SUMMARY: The Coast Guard is modifying the effective date of a published temporary deviation from the operating schedule that governs the Washington State Route 529 (SR 529) twin bridge south bound across the Snohomish River, mile 3.6, at Everett, WA. The modification of the date is necessary to further facilitate mechanical adjustment of newly installed bridge joints. This deviation allows the bridges to remain in the closed to navigation position for four weeks.

DATES: The deviation published in the Federal Register on November 17, 2014 (79 FR 68365) is effective without actual notice from February 12, 2015 to 11 p.m. on March 4, 2015. For the purposes of enforcement, actual notice will be used from 7 a.m. on February 2, 2015, until February 12, 2015.

ADDRESSES: The docket for this deviation, [USCG-2014-0977] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Steven M. Fischer, Bridge Administrator, Thirteenth Coast Guard District; telephone 206-220-7282, email d13-pf-d13bridges@uscg.mil. If you have questions on viewing the docket, call Cheryl Collins, Program Manager, Docket Operations, telephone 202-366-9826.

SUPPLEMENTARY INFORMATION: On November 17, 2014, the Coast Guard's notice of temporary deviation from regulations under the same docket number, USCG-2014-0977 was published in the Federal Register (79 FR 68365). That document resulted from Washington State Department of Transportation's (WSDOT) request for a temporary deviation, occurring from 8 a.m. on January 10, 2015 to 11 p.m. on February 15, 2015, from the normal operation of the drawbridge to perform adjustments on bridge joints. Subsequent to the approval of that request, Washington State Department of Transportation requested a modification to the temporary deviation for dates in early February, 2015 through early March, 2015 to complete removal of old warn joints, install and adjust new joints. Coordination between all interested parties determined that all work could be accomplished during one scheduled closure occurring in early February, 2015 to early March, 2015. This new scheduling avoids two separate deviations causing a longer term impact on navigation. Therefore, through this document, the Coast Guard modifies the dates of the previously approved temporary deviation. The modification allows the drawbridge of the SR 529 Twin Bridges south bound, mile 3.6, crossing the Snohomish River at Everett, WA, to open on demand with at least twenty four hours of notice for five days, and followed with a closed-to-navigation position until early March, 2015. The deviation is effective from 7 a.m. on February 2, 2015, open on demand with at least a twenty four notice, until 6 a.m. on February 7, 2015. The drawbridge will then be in the closed-to-navigation position from 7 a.m. on February 7, 2015 until 11 p.m. on March 4, 2015.

Notices of the deviation schedule will be published in the Thirteenth Coast Guard District Local Notice to Mariners and will be broadcast via the Coast Guard Broadcast Notice to Mariners System. A Broadcast Notice to Mariners will be used to update mariners of any changes to the planned schedule for this deviation.

In accordance with 33 CFR 117.35(e), the drawbridge must return to its regular operating schedule immediately at the end of the designated time period. This deviation from the operating regulations is authorized under 33 CFR 117.35.

Dated: February 2, 2015.
Steven M. Fischer,
Bridge Administrator, Thirteenth Coast Guard District.

[FR Doc. 2015-02972 Filed 2-11-15; 8:45 am]

BILLING CODE 9110-04-P